DEPARTMENT OF COMMERCE

National Oceanic and Atmospheric Administration

[I.D. 071101F]

Caribbean Fishery Management Council; Public Meetings

AGENCY: National Marine Fisheries Service (NMFS), National Oceanic and Atmospheric Administration (NOAA), Commerce.

ACTION: Notice of public meetings.

SUMMARY: The Caribbean Fishery Management Council (Council) will hold meetings.

DATES: The meetings will be held on August 13-16, 2001. The Administrative Committee will meet on August 13, from 2 p.m. until 5 p.m. The Council will convene on Tuesday, August 14, 2001, from 9 a.m. to 5 p.m. through Thursday, August 16, 2001, from 9 a.m. to 12 noon, approximately.

ADDRESSES: The meetings will be held at the Divi Carina Bay Resort and Casino, 25 Estate Turnerhole, Christiansted, St. Croix, USVI.

FOR FURTHER INFORMATION CONTACT: Caribbean Fishery Management Council, 268 Muñoz Rivera Avenue, Suite 1108, San Juan, Puerto Rico 00918-2577; telephone: (787) 766-5926.

SUPPLEMENTARY INFORMATION: The Council will hold its 105th regular public meeting to discuss the items contained in the following agenda:

Call to Order

Election of Officials

Adoption of Agenda

Consideration of 104th Council Meeting Summary Minutes

Public Hearing on Sustainable Fisheries Act (SFA) Management Targets and Thresholds Tables

SFA Final Action

Methods for Optimum Yield with Limited Data - J. Nowlis

Regulatory Impact Review for Reeffish Amendment 3 - W. Keithly

Overview of Limited Entry Strategies

Reeffish Amendment 3

-Public Meetings Report

-Decisions on Management Measures for Public Hearings

Queen Conch Fishery Management Plan (FMP) Update

Enforcement

-Federal Government

-Puerto Rico

-U.S. Virgin Islands

Administrative Committee Recommendations

Meetings Attended by Council Members and Staff

Other Business

Next Council Meeting

The Council will open a 1-hour comment period from 1:30 p.m. to 2:30 p.m., on August 14, 2001, to allow the local government representatives and the general public to provide any comments on the data included in the tables prepared for the management targets and thresholds (MSY, OY, MSST, etc.) as required under the SFA.

The Administrative Committee will meet on August 13, from 2 p.m. to 5 p.m., to discuss administrative matters.

The meetings are open to the public, and will be conducted in English. Fishers and other interested persons are invited to attend and participate with oral or written statements regarding agenda issues.

Although non-emergency issues not contained in this agenda may come before this group for discussion, those issues may not be the subjects of formal action during this meeting. Action will be restricted to those issues specifically identified in this notice and any issues arising after publication of this notice that require emergency action under section 305 (c) of the Magnuson-Stevens Fishery Conservation and Management Act, provided the public has been notified of the Council’s intent to take final action to address the emergency.

Special Accommodations

These meetings are physically accessible to people with disabilities. For more information or request for sign language interpretation and/other auxiliary aids, please contact Mr. Miguel A. Rolón, Executive Director, Caribbean Fishery Management Council,(see FOR FURTHER INFORMATION CONTACT) at least 5 days prior to the meeting date.

Dated: July 13, 2001.
Richard W. Surdi,
Acting Director, Office of Sustainable Fisheries, National Marine Fisheries Service.

[FR Doc. 01-18832 Filed 7-26-01; 8:45 am]

BILLING CODE 3510-22-S